DEPARTMENT OF THE TREASURY

Internal Revenue Service

Advisory Group to the Tax Exempt and Government Entities Division of the Internal Revenue Service; Charter

AGENCY: Internal Revenue Service (IRS); Treasury.

ACTION: Notice.

SUMMARY: The Treasury Department has determined that it is in the public interest to renew the Advisory Committee on Tax Exempt and Government Entities. The Department has filed a charter for an additional two-year term for the Committee.

FOR FURTHER INFORMATION CONTACT: Steven J. Pyrek, Tax Exempt and Government Entities, T:CL, 6th Floor Penn Bldg., 1111 Constitution Ave., NW., Washington, DC 20224. Telephone: 202-283-9966 (not a toll-free number). E-mail address: steve.j.pyrek@irs.gov.

SUPPLEMENTARY INFORMATION: The charter to renew the Advisory Committee on Tax Exempt and Government Entities was filed on August 6, 2001. The Committee's name has been changed from Tax Exempt Advisory Committee to more accurately reflect the membership and purpose of the Committee: To represent the customer base and stakeholders of the Tax Exempt and Government Entities Division of the IRS. The Advisory Committee consists of stakeholders from the communities of: Employee Plans: Exempt Organizations; Federal, State and Local Governments; Indian Tribal Governments; and Tax Exempt Bonds. The Committee is established to provide an organized public forum for discussion of relevant issues between these communities and officials of the IRS. The Committee members will present in an organized and constructive fashion the interested public's observations about current or proposed Tax Exempt and Government Entities Division programs and procedures and will suggest improvements in the on-going IRS modernization and restructuring process.

Dated: August 29, 2001.
Steven J. Pyrek,
Designated Federal Official, Director, Communications and Liaison, Tax Exempt and Government Entities Division.

[FR Doc. 01-25991 Filed 10-15-01; 8:45 am]

BILLING CODE 4830-01-P